DEPARTMENT OF AGRICULTURE

Forest Service

Sierra County, CA, Resource Advisory Committee

AGENCY: Forest Service, USDA.

ACTION: Notice of meeting.

SUMMARY: The Sierra County Resource Advisory Committee (RAC) will meet on January 27, 2005, in Downieville, California. The purpose of the meeting is to discuss issues relating to implementing the Secure Rural Schools and Community Self-Determination Act of 2000 (Payments to States) and the expenditure of Title II funds benefiting National Forest System lands on the Humboldt-Toiyabe, Plumas and Tahoe National Forests in Sierra County.

DATES: The meeting will be held Thursday, January 27, 2005, at 10 a.m.

ADDRESSES: The meeting will be held at the Memorial Hall in Downieville, CA.

FOR FURTHER INFORMATION CONTACT: Ann Westling, Committee Coordinator, USDA, Tahoe National Forest, 631 Coyote St., Nevada City, CA 95959, (530) 478-6205, e-mail: awestling@fs.fed.us.

SUPPLEMENTARY INFORMATION: Agenda items to be covered include: (1) Welcome and announcements; (2) status of previously approved projects; and (3) review of and decisions on new projects proposals for current year. The meeting is open to the public and the public will have an opportunity to comment at the meeting. The meeting will be rescheduled if weather conditions warrant.

Dated: January 10, 2005.
Steven T. Eubanks,
Forest Supervisor.

[FR Doc. 05-897 Filed 1-14-05; 8:45 am]

BILLING CODE 3410-11-M